SMALL BUSINESS ADMINISTRATION

National Women's Business Council; Quarterly Public Meeting

AGENCY: National Women's Business Council, SBA.

ACTION: Notice of open public meeting.

SUMMARY: The SBA is issuing this notice to announce the location, date, time, and agenda for its public meeting of the National Women's Business Council. The meeting will be open to the public.

DATES: June 25th, 2014 from 11:30 a.m. Eastern Time to 1:00 p.m. Eastern Time. This meeting will take place virtually.

ADDRESSES: Please contact Krystal Glass at Krystal.glass@nwbc.gov to receive information on the virtual meeting.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator. The purpose of the meeting is to provide updates on the NWBC's action items for fiscal year 2014 included but not limited to procurement, access to capital, access to markets, young and high-growth women entrepreneurs. The topics to be discussed will include an update from each of the NWBC's committees, a mid-year report and engagement strategy update.

FOR FURTHER INFORMATION CONTACT: The meeting is open to the public however advance notice of attendance is requested. Anyone wishing to attend must email their interest to krystal.glass@nwbc.gov no later than June 18th, 2014.

Those needing special accommodation in order to attend or participate in the meeting, please contact krystal.glass@nwbc.gov no later than June 18th, 2014.

For more information, please visit our Web site at www.nwbc.gov.

Dated: May 23, 2014.
Diana Doukas,
SBA Committee Management Officer.

[FR Doc. 2014-12559 Filed 5-29-14; 8:45 am]

BILLING CODE 8025-01-P